ENVIRONMENTAL PROTECTION AGENCY

[FRL-7134-5]

Agency Information Collection Activities: Proposed Collection; Comment Request; Eliciting Risk Tradeoffs for Valuing Fatal Cancer Risks

AGENCY: Environmental Protection Agency (EPA).

ACTION: Notice.

SUMMARY: In compliance with the Paperwork Reduction Act (44 U.S.C. 3501 et seq.), this document announces that EPA is planning to submit the following proposed Information Collection Request (ICR) to the Office of Management and Budget (OMB): Eliciting Risk Tradeoffs for Valuing Fatal Cancer Risks, EPA ICR 2057.01. Before submitting the ICR to OMB for review and approval, EPA is soliciting comments on specific aspects of the proposed information collection as described below.

DATES: Comments must be submitted on or before April 1, 2002.

ADDRESSES: Dr. Melonie Williams, National Center for Environmental Economics, US EPA, Mail Code 1809, 1200 Pennsylvania Ave. NW., Washington, DC, 20460. Interested persons may obtain a copy of the ICR without charge by contacting Dr. Williams at 202-260-7978 or williams.melonie@epa.gov.

FOR FURTHER INFORMATION CONTACT: Dr. Chris Dockins at 202-260-5728 or dockins.chris@epa.gov.

SUPPLEMENTARY INFORMATION: Affected entities: Entities potentially affected by this action are those individuals who are contacted and voluntarily agree to participate in the survey. The survey pool will be a pre-established panel of respondents who have been randomly recruited from the general public by Knowledge Networks, Inc. or other web-based survey research firm. Typically, respondents have agreed with the survey research firm to participate in periodic web-based surveys. None of the other surveys conducted by the firm administering this survey will be related to this study.

Title: Eliciting Risk Tradeoffs for Valuing Fatal Cancer Risks (EPA ICR No. 2057.01).

Abstract: It is widely recognized that reductions in cancer risks are among the most important and tangible benefits resulting from a variety of environmental, food safety and other public health initiatives. Nevertheless, assessing these benefits in monetary terms remains a challenge. In July 2000, the United States Environmental Protection Agency's (USEPA's) Science Advisory Board (SAB) concluded that most existing estimates valuing the benefits of reductions in mortality risks “should not be taken as precise estimates for the value of reducing the risks of fatal cancers, because of differences in the nature of the risks being valued * * *.” They also commended efforts “to develop systematic and credible approaches to improved valuation of the benefits of fatal cancer risk reduction.” (USEPA, 2000). The purpose of this proposed survey is to extend these efforts.

Through a cooperative agreement, EPA's Office of Policy, Economics and Innovation (OPEI) and Research Triangle Institute (RTI) have designed and are proposing to conduct a nationwide survey of adult individuals. The focus of this survey is to elicit their relative preferences for reducing two types of potentially very different mortality risks—risk of automobile death and risk of contracting a fatal cancer. The existing empirical literature on mortality risk values has focused almost exclusively on accidental (occupational and/or automobile) deaths, because individuals regularly reveal information on their values for avoiding these types of risks through job choices and consumer purchases. However, as the SAB has concluded, these values may not be directly applicable for valuing avoided cancer risks. In contrast to accidental deaths, fatal cancer risks may involve a long delay between exposure to a carcinogen and the first symptoms of disease (latency period), and death may only occur after several years of suffering with the disease (morbidity period).

The proposed survey will explore individuals' tradeoffs between the two types of risks. It will apply established stated preference research methods, and the resulting survey data will be used to estimate (1) how strongly individuals prefer reducing one type of risk over the other, (2) how this strength of preference is affected by the length of the morbidity and latency periods, (3) and how preferences differ across different types of cancer. These estimates will help to provide researchers and policy analysts with a systematic and credible basis for adjusting existing mortality risk values. Such adjustments will be particularly useful for assessing the benefits of reducing fatal cancer risks, but they will also be relevant in assessing the benefits of reducing other types of fatal risks that involve extended latency and/or morbidity periods.

The data collected through this survey will greatly benefit any agency or organization that has a role in protecting the public against fatal cancer risks and/or an interest in evaluating the resulting gains to society. Evaluations of this type are required under executive orders (Executive Order 12866) and a broad array of federal statutes, including the 1996 Safe Drinking Water Act (SDWA) Amendments, the Toxic Substances Control Act (TSCA), the Federal Insecticide, Fungicide, Rodenticide Act (FIFRA), the Food Quality Protection Act (FQPA), and the Unfunded Mandates Reform Act (UMRA). Federal agencies with a particular interest in assessing the benefits of reductions in fatal cancer incidence include not only the USEPA, but the Department of Health and Human Services (DHHS) (especially the Food and Drug Administration [FDA]), the Department of Agriculture (USDA), the Office of Management and Budget(OMB), and the Congressional Budget Office(CBO) as well. Many agencies and departments must also evaluate the benefits of their own risk reduction policies. The methodology proposed for this research will also provide a model for future researchers with an interest in exploring individuals values and tradeoffs between different types of health improvements.

A thorough pretest of the survey will be conducted using 250 respondents. For the full scale survey, information will be collected from an additional 2000 respondents. The survey is designed to collect information through an established panel of respondents, using a WebTV mode of administration. The data will be collected and stored electronically by the survey research firm. Based on previous experience and a limited number of cognitive pretest interviews, each survey will take approximately 25 minutes.

Responses to the survey will be voluntary. Typically, panel members are free to choose whether or not to respond to any particular survey as long as they meet survey quotas set in their agreement with the web-based survey research firm. In collaboration with Knowledge Networks, RTI has developed a plan for assuring the confidentiality of participants. Under this plan, the survey will fully conform to federal regulations—specifically, the Privacy Act of 1974 (5 U.S.C. 552a), Privacy Act Regulations (34 CFR part 5b), the Hawkins-Stafford Amendments of 1988 (Public Law 100-297), and the Computer Security Act of 1987. The plan for maintaining confidentiality includes signing confidentiality agreements and notarized nondisclosure affidavits obtained from all personnel who will have access to individual identifiers. Also included in the plan is personnel training regarding the meaning of confidentiality, particularly as it relates to handling requests for information and providing assurance to respondents about the protection of their responses; controlled and protected access to computer files under the control of a single data base manager; built-in safeguards concerning status monitoring and receipt control systems; and a secured and operator-manned in-house computing facility. Data files and documentation will be delivered to RTI and EPA at the end of the project, but no names or addresses will be included on any data file. A locator database for these sample members will be maintained by the survey research firm in a separate and secure location. All data collection elements and procedures will be reviewed by RTI's Committee for the Protection of Human Subjects. This committee serves as RTI's Institutional Review Board (IRB) as required by 45 CFR part 46. It is the policy of RTI that the IRB review all research involving human subjects in a manner consistent with the regulations in 45 CFR part 46 and regardless of funding source to ensure that all RTI studies involving human populations comply with applicable regulations concerning informed consent, confidentiality, and protection of privacy.

An agency may not conduct or sponsor, and a person is not required to respond to, a collection of information unless it displays a currently valid OMB control number. The OMB control numbers for EPA's regulations are listed in 40 CFR part 9 and 48 CFR Chapter 15.

The EPA would like to solicit comments in order to:

(i) Evaluate whether the proposed collection of information is necessary for the proper performance of the functions of the agency, including whether the information will have practical utility;

(ii) evaluate the accuracy of the agency's estimate of the burden of the proposed collection of information, including the validity of the methodology and assumptions used;

(iii) enhance the quality, utility, and clarity of the information to be collected; and

(iv) minimize the burden of the collection of information on those who are to respond, including through the use of appropriate automated electronic, mechanical, or other technological collection techniques or other forms of information technology, e.g., permitting electronic submission of responses.

Burden Statement: Because the proposed survey will take advantage of the existing and pre-recruited panel of WebTV respondents, the only burden imposed by the survey on respondents will be the time required to take the survey. Based on pretest interviews, the survey authors estimate that this will involve an average of 25 minutes per respondent. With 250 respondents for the pilot survey, and 2000 respondents for the full-scale survey, this will involve a total of 937.5 hours. Since the survey is a one-time collection, this represents both an annual and a total burden estimate. Based on an average hourly wage of $22.15 (including employer costs of all employee benefits), the survey authors expect that the average per-respondent cost for the pilot survey will be $9.23 and the corresponding one-time total cost to all respondents will be $20,765.00. Since this information collection is voluntary and does not involve any additional special equipment, respondents will not incur any capital or operation and maintenance (O&M) costs.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: January 4, 2002.
Al McGartland,
Director, National Center for Environmental Economics, Office of Policy Economics and Innovation.

[FR Doc. 02-2126 Filed 1-28-02; 8:45 am]

BILLING CODE 6560-50-P